DEPARTMENT OF THE INTERIOR

National Park Service

Notice of Inventory Completion: U.S. Department of the Interior, National Park Service, Yellowstone National Park, Mammoth Hot Springs, WY

AGENCY: National Park Service, Interior.

ACTION: Notice.

Notice is here given in accordance with the Native American Graves Protection and Repatriation Act (NAGPRA), 25 U.S.C. 3003, of the completion of an inventory of human remains in the possession and control of the U.S. Department of the Interior, National Park Service, Yellowstone National Park, Mammoth Hot Springs, WY. The human remains were removed from an area near Logan, Gallatin County, MT.

This notice is published as part of the National Park Service's administrative responsibilities under NAGPRA, 25 U.S.C. 3003 (d)(3). The determinations in this notice are the sole responsibility of the superintendent, Yellowstone National Park.

A detailed assessment of the human remains was made by Yellowstone National Park professional staff in consultation with representatives of the Arapaho Tribe of the Wind River Reservation, Wyoming; Assiniboine and Sioux Tribes of the Fort Peck Indian Reservation, Montana; Blackfeet Tribe of the Blackfeet Indian Reservation of Montana; Cheyenne River Sioux Tribe of the Cheyenne River Reservation, South Dakota; Coeur D'Alene Tribe of the Coeur D'Alene Reservation, Idaho; Confederated Salish & Kootenai Tribes of the Flathead Reservation, Montana; Crow Tribe of Montana; Flandreau Santee Sioux Tribe of South Dakota; Fort Belknap Indian Community of the Fort Belknap Reservation of Montana; Kiowa Indian Tribe of Oklahoma; Lower Brule Sioux Tribe of the Lower Brule Sioux Reservation, South Dakota; Nez Perce Tribe of Idaho; Northern Cheyenne Tribe of the Northern Cheyenne Indian Reservation, Montana; Oglala Sioux Tribe of the Pine Ridge Reservation, South Dakota; Rosebud Sioux Tribe of the Rosebud Indian Reservation, South Dakota; Shoshone Tribe of the Wind River Reservation, Wyoming; Shoshone-Bannock Tribes of the Fort Hall Reservation of Idaho; and Yankton Sioux Tribe of South Dakota.

Prior to 1886, human remains representing a minimum of one individual were removed from a site near Logan, Gallatin County, MT, outside park boundaries. Non-destructive analysis of the human remains determined that the human remains are Native American (Willey and Key 1992). No known individual was identified. No associated funerary objects are present.

The incomplete skull, recovered by a sheepherder near his camp northeast of Logan, MT, was obtained by W.H. Everson of Bozeman, MT, in 1886. Mr. Everson sold the human remains to Senator F.C. Walcott and Mr. George Pratt, who donated them to Yellowstone National Park in 1930. Parts of the cranium appear to have been painted or stained red, though it is not known when that occurred. Writings by Mr. Everson state that he encountered “several lodges of Flatheads” when he camped in the area in 1884. Representatives of the Confederated Salish & Kootenai Tribes of the Flathead Reservation, Montana confirm that their ancestors camped near Logan, MT, around 1884.

Officials of Yellowstone National Park have determined that, pursuant to 25 U.S.C. 3001 (9-10), the human remains described above represent the physical remains of one individual of Native American ancestry. Officials of Yellowstone National Park also have determined that, pursuant to 25 U.S.C. 3001 (2), there is a relationship of shared group identity that can be reasonably traced between the Native American human remains and the Confederated Salish & Kootenai Tribes of the Flathead Reservation, Montana.

Representatives of any other Indian tribe that believes itself to be culturally affiliated with the human remains should contact Suzanne Lewis, superintendent, Yellowstone National Park, P.O. Box 168, Yellowstone National Park, WY 82190, telephone (307) 344-2229, before December 22, 2006. Repatriation of the human remains to the Confederated Salish & Kootenai Tribes of the Flathead Reservation, Montana may proceed after that date if no additional claimants come forward.

Yellowstone National Park is responsible for notifying the Arapaho Tribe of the Wind River Reservation, Wyoming; Assiniboine and Sioux Tribes of the Fort Peck Indian Reservation, Montana; Blackfeet Tribe of the Blackfeet Indian Reservation of Montana; Cheyenne River Sioux Tribe of the Cheyenne River Reservation, South Dakota; Coeur D'Alene Tribe of the Coeur D'Alene Reservation, Idaho; Confederated Salish & Kootenai Tribes of the Flathead Reservation, Montana; Crow Tribe of Montana; Flandreau Santee Sioux Tribe of South Dakota; Fort Belknap Indian Community of the Fort Belknap Reservation of Montana; Kiowa Indian Tribe of Oklahoma; Lower Brule Sioux Tribe of the Lower Brule Sioux Reservation, South Dakota; Nez Perce Tribe of Idaho; Northern Cheyenne Tribe of the Northern Cheyenne Indian Reservation, Montana; Oglala Sioux Tribe of the Pine Ridge Reservation, South Dakota; Rosebud Sioux Tribe of the Rosebud Indian Reservation, South Dakota; Shoshone Tribe of the Wind River Reservation, Wyoming; Shoshone-Bannock Tribes of the Fort Hall Reservation of Idaho; and Yankton Sioux Tribe of South Dakota that this notice has been published.

Dated: October 23, 2006.
Sherry Hutt,
Manager, National NAGPRA Program.

[FR Doc. E6-19786 Filed 11-21-06; 8:45 am]

BILLING CODE 4312-50-S